DEPARTMENT OF THE INTERIOR

Office of the Secretary

Establishment of the Ocean Energy Safety Advisory Committee

AGENCY: Department of the Interior.

ACTION: Establishment of the Ocean Energy Safety Advisory Committee.

SUMMARY: In accordance with the provisions of the Federal Advisory Committee Act (FACA), as amended, 5 U.S.C. App. 2, and with the concurrence of the General Services Administration, the Department of the Interior is announcing the establishment of the Ocean Energy Safety Advisory Committee (Committee). The purpose of the Committee is to provide advice on matters and actions relating to offshore energy safety, including, but not limited to drilling and workplace safety, well intervention and containment, and oil spill response. The Committee will also facilitate collaborative research and development, training and execution in these and other areas relating to offshore energy safety.

The Department of the Interior is seeking nominations for individuals to be considered as Committee members.

DATES: Written nominations must be received by February 23, 2011.

ADDRESSES: Send nominations to: Lindsay Dubin, Special Assistant to the Director, Bureau of Ocean Energy Management, Regulation and Enforcement, 1849 C Street, NW., Mailstop 5438, Washington, DC 20240; Lindsay.Dubin@boemre.gov.

FOR FURTHER INFORMATION CONTACT: Lindsay Dubin, Special Assistant to the Director, Bureau of Ocean Energy Management, Regulation and Enforcement, 1849 C Street, NW., Mailstop 5438, Washington, DC 20240; Lindsay.Dubin@boemre.gov.

SUPPLEMENTARY INFORMATION: The Offshore Energy Safety Advisory Committee is being established in connection with the responsibilities of the Department of the Interior under the Outer Continental Shelf Lands Act, as amended, 43 U.S.C. 1331 et seq. The Secretary of the Interior certifies that the formation of the Committee is necessary and is in the public interest.

The Committee will conduct its operations in accordance with the provisions of the FACA. It will report to the Secretary of the Interior through the Director of the Bureau of Ocean Energy Management, Regulation and Enforcement (BOEMRE), or the Designated Federal Officer (DFO). BOEMRE will provide administrative and logistical support to the Committee.

The purpose of the Committee is to provide advice on matters and actions relating to offshore energy safety, including, but not limited to drilling and workplace safety, well intervention and containment, and oil spill response, and to facilitate collaborative research and development, training and execution in these and other areas relating to offshore energy safety.

Members of the Committee will include representatives from the offshore energy industry; the academic community; non-governmental organizations; and the Federal Government, including BOEMRE, the Department of Energy, the National Oceanic and Atmospheric Administration, and the United States Coast Guard.

The Committee will meet approximately five times annually, and at such times as designated by the DFO. The Secretary of the Interior will appoint members to the Committee, with input and recommendations from the above-referenced Federal agencies, the offshore energy industry, the academic community and other stakeholders.

Certification Statement: I hereby certify that the establishment of the Ocean Energy Safety Advisory Committee is necessary and is in the public interest in connection with the performance of duties imposed on the Department of the Interior under the Outer Continental Shelf Lands Act, as amended, 43 U.S.C. 1331 et seq.

Dated: January 19, 2011.
Ken Salazar,
Secretary of the Interior.

[FR Doc. 2011-1374 Filed 1-21-11; 8:45 am]

BILLING CODE 4310-MR-P